DEPARTMENT OF JUSTICE

Antitrust Division

Notice Pursuant to the National Cooperative Research and Production Act of 1993—Management Service Providers Association, Inc.

Notice is hereby given that, on October 20, 2000, pursuant to Section 6(a) of the National Cooperative Research and Production Act of 1993, 15 U.S.C. 4301 et seq. (“the Act”), Management Service Providers Association, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are 2ndWave, Inc., Dallas, TX; Candle Corporation, El Segundo, CA; Entuity, Inc., New York, NY; Hewlett Packard Open View, Fort Collins, CO; InteQ Corporation, Burlington, MA; iSharp, Redwood City, CA; Luminate, Redwood City, CA; Manage.com, San Jose, CA; ManageIT, Houston, TX; McAfee.com, Sunnyvale, CA; NCMX, Inc., Seattle, WA; Nuclio Corporation, Skokie, IL; SilverBack Technologies, Inc., Billerica, MA; SiteLite, Inc., Rancho Santa Margarita, CA; SiteRock Corporation, Emeryville, CA; Storability, Inc., Southborough, MA; StorageNetworks, Inc., Waltham, MA; TriActive, Inc., Austin, TX; UP 7/24, San Diego, CA; AdventNet, Inc., San Jose, CA; Crystal Group, Inc., Hiawatha, IN; DefendNet Solutions, Inc., Providence, RI; Dirig Software, Nashua, NH; Easy Vista, Beverly, MA; Envive Corporation, Mountain View, CA; FusionStorm, San Francisco, CA; Internet Security Systems, Inc., Atlanta, GA; Logical, Slough SL1 4NL, England, United Kingdom; ManagedStorage International, Inc., Westminster, CO; Mercury Interactive Corp., Sunnyvale, CA; Selis Networks, Inc., San Francisco, CA; Symantec Corporation, Cupertino, CA; Atlaworks, Nashua, NH; Digital Fuel Technologies, Inc., Redwood City, CA; e4e, Inc., Santa Clara, CA; Gomez Networks, Lincoln, MA; InsynQ, Inc., Tacoma, WA; Connected Corporation, Natick, MA; EMC Corporation, Hopkinton, MA; Mission Critical Linux, Inc., Lowell, MA; TimeBridge Technologies, Inc., McLean, VA; NetTasking.com, Singapore 038987, Singapore; StorageWay, Inc., Fremont, CA; CAT Technology, Los Gatos, CA; Freshwater Software, Inc., Boulder, CO; Access360, Irvine, CA; Nitrosoft Linux, Ottawa, Ontario, Canada; Guardent, Inc., Waltham, MA; NetSolve, Austin, TX; Tally Systems Corp, Lebanon, NH; eNetSecure, Inc., Sunnyvale, CA; Coradiant, Inc., Montreal, Quebec, Canada; Telenisus Corp., Rolling Meadows, IL; Agilent Technologies—Firehunter, Fort Collins, CO; Precise Software Solutions Inc., Westwood, MA; BMC Software, Inc., Houston, TX; esavio, Berwyn, PA; Arsenal Digital Solutions, Durham, NC and Aptegrity, Fairfield, NJ. The nature and objectives of the venture are (a) to educate the market, sponsor research, foster standards and articulate the measurable benefits of the management service provider model; (b) to serve as a forum for discussion of related issues, sponsor industry research, develop open standards and guidelines and promote best practices; and (c) to undertake such other activities as may from time to time be appropriate to further the purposes and goals set forth above.

Notwithstanding the foregoing, if the Board of Directors elects to seek and obtain an exemption from Federal taxation for the Corporation pursuant to section 501(a) of the Internal Revenue Code of 1986, as amended, and until such time, if ever, as such exemption is denied or lost, the Corporation shall not be empowered to knowingly engage directly or indirectly in any activity that it believes would be likely to invalidate its status as an organization exempt from federal income taxation under Section 501(a) of the Code as an organization described in Section 501(c) of the Code. Membership in the Corporation remains open and the Corporation intends to file additional written notifications disclosing all changes in membership.

Constance K. Robinson,
Director of Operations, Antitrust Division.

[FR Doc. 00-29982 Filed 11-22-00; 8:45 am]

BILLING CODE 4410-11-M